OFFICE OF SCIENCE AND TECHNOLOGY POLICY

President's Council of Advisors on Science and Technology; Meeting

Notice of Meeting: Partially Closed Meeting of the President's Council of Advisors on Science and Technology.

ACTION: Public Notice.

SUMMARY: This notice sets forth the schedule and summary agenda for a partially closed meeting of the President's Council of Advisors on Science and Technology (PCAST), and describes the functions of the Council. Notice of this meeting is required under the Federal Advisory Committee Act (FACA), 5 U.S.C., App.

DATES: May 21, 2010.

ADDRESSES: The meeting will be held at the Keck Center of the National Academies, 500 5th Street, NW., Room Keck 100, Washington, DC.

Type of Meeting: Open and Closed.

Proposed Schedule and Agenda: The President's Council of Advisors on Science and Technology (PCAST) is scheduled to meet in open session on May 21, 2010 from 8:30 a.m.-5 p.m. with a lunch break from 12:30 p.m. to 1:30 p.m.

Open Portion of Meeting: During this open meeting, PCAST is tentatively scheduled to hear presentations from the director of the Advanced Research Projects Agency-Energy (ARPA-E), the Under Secretary of Commerce for Oceans and Atmosphere and administrator of the National Oceanic and Atmospheric Administration (NOAA), and the director of the U.S. Geological Survey (USGS). The ARPA-E director will focus his remarks on the energy innovation, and the NOAA Administrator and USGS Director on biodiversity issues. PCAST members will also discuss reports they are developing on the topics of advanced manufacturing; science, technology, engineering, and mathematics (STEM) education, health information, and influenza vaccinology. Additional information and the agenda will be posted at the PCAST Web site at: http://whitehouse.gov/ostp/pcast.

Closed Portion of the Meeting: PCAST may hold a closed meeting of approximately 1 hour with the President on May 21, 2010, which must take place in the White House for the President's scheduling convenience and to maintain Secret Service protection. This meeting will be closed to the public because such portion of the meeting is likely to disclose matters that are to be kept secret in the interest of national defense or foreign policy under 5 USC 552b(c)(1). The precise date and time of this potential meeting has not yet been determined.

Public Comments: It is the policy of the PCAST to accept written public comments of any length, and to accommodate oral public comments whenever possible. The PCAST expects that public statements presented at its meetings will not be repetitive of previously submitted oral or written statements.

The public comment period for this meeting will take place on May 21, 2010 at a time specified in the meeting agenda posted on the PCAST Web site at http://whitehouse.gov/ostp/pcast. This public comment period is designed only for substantive commentary on PCAST's work, not for business marketing purposes.

Oral Comments: To be considered for the public speaker list at the March meeting, interested parties should register to speak at http://whitehouse.gov/ostp/pcast, no later than 5 pm Eastern Time on Wednesday, May 12, 2010. Phone or e-mail reservations will not be accepted. To accommodate as many speakers as possible, the time for public comments will be limited to two (2) minutes per person, with a total public comment period of 30 minutes. If more speakers register than there is space available on the agenda, PCAST will randomly select speakers from among those who applied. Those not selected to present oral comments may always file written comments with the committee. Speakers are requested to bring at least 25 copies of their oral comments for distribution to the PCAST members.

Written Comments: Although written comments are accepted until the date of the meeting, written comments should be submitted to PCAST at least two weeks prior to each meeting date, May 6, 2010, so that the comments may be made available to the PCAST members prior to the meeting for their consideration. Information regarding how to submit comments and documents to PCAST is available at http://whitehouse.gov/ostp/pcast in the section entitled “Connect with PCAST.”

Please note that because PCAST operates under the provisions of FACA, all public comments and/or presentations will be treated as public documents and will be made available for public inspection, including being posted on the PCAST Web site.

FOR FURTHER INFORMATION CONTACT: Information regarding the meeting agenda, time, location, and how to register for the meeting is available on the PCAST Web site at: http://whitehouse.gov/ostp/pcast. A live video webcast and an archive of the webcast after the event will be available at http://whitehouse.gov/ostp/pcast. The archived video will be available within one week of the meeting. Questions about the meeting should be directed to Dr. Deborah D. Stine, PCAST Executive Director, at dstine@ostp.eop.gov, (202) 456-6006. Please note that public seating for this meeting is limited and is available on a first-come, first-served basis.

SUPPLEMENTARY INFORMATION: The President's Council of Advisors on Science and Technology is an advisory group of the nation's leading scientists and engineers who directly advise the President and the Executive Office of the President. See the Executive Order at http://www.whitehouse.gov/ostp/pcast. PCAST makes policy recommendations in the many areas where understanding of science, technology, and innovation is key to strengthening our economy and forming policy that works for the American people. PCAST is administered by the Office of Science and Technology Policy (OSTP). PCAST is co-chaired by Dr. John P. Holdren, Assistant to the President for Science and Technology, and Director, Office of Science and Technology Policy, Executive Office of the President, The White House; Dr. Harold E. Varmus, President, Memorial Sloan-Kettering Cancer Center; and Dr. Eric S. Lander, President and Director, Broad Institute of MIT and Harvard.

Meeting Accomodations: Individuals requiring special accommodation to access this public meeting should contact Dr. Stine at least ten business days prior to the meeting so that appropriate arrangements can be made.

Ted Wackler,
Deputy Chief of Staff.

[FR Doc. 2010-10074 Filed 4-28-10; 8:45 am]

BILLING CODE P